DEPARTMENT OF LABOR

Employment and Training Administration

[TA-W-35,557]

Freeport-McMoRan Sulphur, L.L.C., Culberson Mine, a.k.a. McMoRan Exploration Co., Pecos, TX, Including Leased Workers of Pecos Valley Field Services, Inc., Pecos, Texas; Amended Certification Regarding Eligibility To Apply for Worker Adjustment Assistance

In accordance with section 223 of the Trade Act of 1974 (19 U.S.C. 2273) the U.S. Department of Labor issued a Certification of Eligibility to Apply for Worker Adjustment Assistance on April 5, 1999 applicable to workers of Freeport-McMoRan Sulphur, L.L.C., Culberson Mine, Pecos, Texas, including leased workers of Pecos Valley Field Services, Inc., Pecos, Texas. The notice was published in the Federal Register on May 21, 1999 (64 FR 27811).

At the request of the company and State agency, the Department reviewed the certification for workers of the subject firm. The workers are engaged in the production of molten elemental sulphur. Company information shows that Freeport-McMoRan Sulphur, L.L.C. “became also known as McMoRan Exploration Company” after its merger in November, 1998.

Accordingly, the Department is amending the certification determination to correctly identify the new ownership to read “Freeport-McMoRan Sulphur L.L.C, Culberson Mine, also known as McMoRan Exploration Company,” Pecos, Texas.

The intent of the Department's certification is to include all workers of Freeport-McMoRan Sulphur, L.L.C. who were adversely affected by increased imports of molten elemental sulphur.

The amended notice applicable to TA-W-35,557 is hereby issued as follows:

All workers of Freeport-McMoRan Sulphur, L.L.C, Culberson Mine, also known as McMoRan Exploration Company, Pecos, Texas, including leased workers of Pecos Valley Field Services, Inc., working at Freeport-McMoRan Sulphur, L.L.C., Pecos, Texas engaged in employment related to the production of molten elemental sulphur who became totally or partially separated from employment on or after January 12, 1998 through April 5, 2001 are eligible to apply for adjustment assistance under Section 223 of the Trade Act of 1974.

Signed at Washington, DC, this 7th day of March, 1998.
Grant D. Beale,
Program Manager, Division of Trade Adjustment Assistance.

[FR Doc. 00-7482 Filed 3-24-00; 8:45 am]

BILLING CODE 4510-30-M